DEPARTMENT OF HEALTH AND HUMAN SERVICES

National Institutes of Health

Office of the Director, National Institutes of Health; Amended Notice of Meeting

Notice is hereby given of a change in the virtual meeting of the Advisory Committee to the Director, February 26, 2021, 3:00 p.m. to 5:30 p.m., which was published in the Federal Register on February 5, 2021, 85 FR 8371.

The meeting notice is amended to revise the agenda topic as follows: Update on NIH Workforce Plans to Promote Diversity, Equity, and Inclusion in Biomedical Research and Request for Concept Clearance for an FY21 Common Fund Initiative.

Dated: February 16, 2021.
David W. Freeman,
Program Analyst, Office of Federal Advisory Committee Policy.

[FR Doc. 2021-03441 Filed 2-19-21; 8:45 am]

BILLING CODE 4140-01-P